DEPARTMENT OF TRANSPORTATION

Federal Aviation Administration

14 CFR Part 71

[Docket No. FAA-2016-9263; Airspace Docket No. 15-AWA-6]

RIN 2120-AA66

Revocation of Offshore Airspace Areas; Control 1154H, Control 1173H, Control 1154L, and Control 1173L, California

AGENCY: Federal Aviation Administration (FAA), DOT.

ACTION: Final rule.

SUMMARY: This action removes offshore airspace areas Control 1154H and Control 1154L located offshore of Ukiah, California, and removes offshore airspace areas Control 1173H and Control 1173L located offshore of San Francisco, California. The FAA has determined these offshore airspace areas are no longer required.

DATES: Effective date 0901 UTC, March 2, 2017. The Director of the FEDERAL REGISTER approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue, SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it removes offshore airspace areas no longer required to ensure the safe and efficient flow of air traffic offshore of the west coast.

History

In 1950, the Civil Aeronautics Administration (CAA), (renamed the Federal Aviation Agency on August 23, 1958, and then renamed the Federal Aviation Administration (FAA) on October 15, 1966), issued a final rule establishing “Control area extension (San Francisco, Calif.) (North dogleg route)” (15 FR 3316, May 30, 1950). Subsequently in 1952, the CAA renamed the control area extension “Control area extension (San Francisco, Calif.)” (17 FR 8323, September 17, 1952). Then in 1962, the Federal Aviation Agency re-described the control area extension as an additional control area and renamed it “Control 1173” (27 FR 220-1, 220-56 (immediately after the 4 blank pages following 27 FR 11030), November 10, 1962). In 1969, the FAA issued a final rule establishing “Control 1154” (34 FR 13589, August 23, 1969) as an additional control area.

In 1993, as a result of the Airspace Reclassification final rule (56 FR 65638, December 17, 1991) and the Offshore Airspace Reconfiguration; Additional Control Areas final rule (58 FR 12128, March 2, 1993), additional control areas were re-designated as either offshore airspace areas or en route domestic airspace areas, as appropriate, and revised controlled airspace determinations were published, in accordance with Presidential Proclamation No. 5928, “Territorial Sea of the United States,” signed December 27, 1988. Accordingly, the additional control areas Control 1154 and Control 1173 were each re-designated into two offshore airspace areas; Control 1154L and Control 1154H, and Control 1173L and Control 1173H, respectively. The primary purpose of these offshore airspace areas was to define the airspace areas over the high seas for which the United States has jurisdiction through an ICAO regional agreement and within which domestic air traffic control procedures are applied.

Based on recent aeronautical reviews of these offshore airspace areas, the FAA has determined that the outer boundaries for the control areas contain geographic latitude/longitude coordinate references that do not align with the Flight Information Region (FIR) boundary, as indicated in their legal descriptions. Additionally, the inner boundary of these offshore airspace areas extend inside the United States territorial limit and are inconsistent with the offshore airspace area guidance, reference being designated in international airspace, published in Title 14 Code of Federal Regulations, part 71, and FAA Order 7400.2, Procedures for Handling Airspace Matters. Further, the Control 1154H, Control 1173H, Control 1154L, and Control 1173L offshore airspace areas are duplicated by the Pacific High and Pacific Low offshore airspace areas that were established in 1993 (58 FR 12128, March 2, 1993) and amended in 2010 (75 FR 51661, August 23, 2010). No operational impact will occur by the removal of Control 1154 and Control 1173 offshore airspace areas. Therefore, the FAA is taking action to remove offshore airspace areas Control 1154H, Control 1173H, Control 1154L, and Control 1173L.

Availability and Summary of Documents for Incorporation by Reference

This document amends FAA Order 7400.11A, Airspace Designations and Reporting Points, signed August 3, 2016, and effective September 15, 2016. FAA Order 7400.11A is publicly available as listed in the ADDRESSES section of this document. FAA Order 7400.11A lists Class A, B, C, D, and E airspace areas, air traffic service routes, and reporting points.

The Rule

This action amends Title 14 Code of Federal Regulations (14 CFR) part 71 by removing offshore airspace areas Control 1154H, Control 1173H, Control 1154L, and Control 1173L. The FAA has determined these control areas are no longer required as they are not in compliance with current regulatory criteria, are duplicated by the Pacific High and Pacific Low offshore airspace areas, and no operational impact will occur by removing them. As this action removes offshore airspace areas no longer needed, notice and public procedure under 5 U.S.C. 553(b) are unnecessary.

Offshore airspace areas (Class A) extending upward from 18,000 feet mean sea level (MSL) to a specified altitude are published in paragraph 2003, and offshore airspace areas (Class E) extending upward from a specified altitude to, but not including 18,000 feet MSL are published in paragraph 6007, of FAA Order 7400.11A, signed August 3, 2016, and effective September 15, 2016, which is incorporated by reference in 14 CFR 71.1. Offshore airspace areas Control 1154H and Control 1173H listed in this document will be subsequently removed from paragraph 2003 of the Order. Control 1154L and Control 1173L will be subsequently removed from paragraph 6007 of the Order.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act and its agency implementing regulations in FAA Order 1050.1F, “Environmental Impacts: Policies and Procedures” regarding categorical exclusions for procedural actions at paragraph 5-6.5a which categorically excludes from full environmental impact review actions that are rulemaking actions that designate or modify classes of airspace areas, airways, routes, and reporting points (see 14 CFR part 71, Designation of Class A, B, C, D, and E Airspace Areas; Air Traffic Service Routes; and Reporting Points). This airspace action consists of removing offshore airspace areas no long needed and is not expected to cause any potentially significant environmental impacts. In accordance with FAAO 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 2003. Offshore Airspace Areas

* * * * *

Control 1154H [Removed]

* * * * *

Control 1173H [Removed]

* * * * *

Paragraph 6007. Offshore Airspace Areas

* * * * *

Control 1154L [Removed]

* * * * *

Control 1173L [Removed]

* * * * *

Issued in Washington, DC, on November 29, 2016.
Leslie M. Swann,
Acting Manager, Airspace Policy Group.

[FR Doc. 2016-29144 Filed 1-3-17; 8:45 am]

BILLING CODE 4910-13-P